DEPARTMENT OF TRANSPORTATION

Federal Highway Administration

[Docket No. FHWA-2006-25366]

Notice of Request To Approve a Revision of a Currently Approved Information Collection: Highway Safety Improvement Program

AGENCY: Federal Highway Administration (FHWA), DOT.

ACTION: Notice and request for comments.

SUMMARY: The FHWA has forwarded the information collection request described in this notice to the Office of Management and Budget (OMB) to approve a revision of a currently approved information collection. We published a Federal Register Notice with a 60-day public comment period on this information collection on May 4, 2006. We are required to publish this notice in the Federal Register by the Paperwork Reduction Act of 1995.

DATES: Please submit comments by August 17, 2006.

ADDRESSES: You may send comments within 30 days to the Office of Information and Regulatory Affairs, Office of Management and Budget, 725 17th Street, NW.,Washington, DC, 20503, Attention DOT Desk Officer. You are asked to comment on any aspect of this information collection, including: (1) Whether the proposed collection is necessary for the FHWA's performance; (2) the accuracy of the estimated burden; (3) ways for the FHWA to enhance the quality, usefulness, and clarity of the collected information; and (4) ways that the burden could be minimized, including the use of electronic technology, without reducing the quality of the collected information. All comments should include the Docket number FHWA-2006-25366.

FOR FURTHER INFORMATION CONTACT: Mr. Kenneth Epstein,202-366-2157, Office of Safety, Federal Highway Administration, Department of Transportation, 400 Seventh Street, SW., Washington, DC 20590. Office hours are from 8:30 a.m. to 5 p.m., Monday through Friday, except Federal holidays.

SUPPLEMENTARY INFORMATION: Title: Highway Safety Improvement Program.

OMB Control No: 2125-0025.

Background: The Safe, Accountable, Flexible, Efficient Transportation Equity Act: A Legacy for Users (SAFETEA-LU) amended Section 148 of Title 23 U.S.C. to establish a new “core” Highway Safety Improvement Program (HSIP) that provides funds to State Departments of Transportation (DOTs) to improve conditions at hazardous highway locations and hazardous railway-highway grade crossings on all public roads, including those maintained by Federal, State and local agencies. The existing provisions of Title 23 U.S.C. 130, Railway-Highway Crossings Program, and 152, Hazard Elimination Program, as well as implementing regulations in 23 CFR part 924, remain in effect. Included in these combined provisions are requirements for State DOTs to annually produce and submit to FHWA by August 31, three reports related to the conduct and effectiveness of their HSIPs, that are to include information on: (a) Progress being made to implement HSIP projects and the effectiveness of these projects in reducing traffic crashes, injuries and fatalities [Sections 148(g) and 152(g)]; (b) progress being made to implement the Railway-Highway Crossings Program and the effectiveness of the projects in that program [Sections 130(g) and 148(g)], which will be used by FHWA to produce and submit biennial reports to Congress required on April 1, beginning April 1, 2006; and, (c) description of at least 5 percent of the State's highway locations exhibiting the most severe safety needs, including an estimate of the potential remedies, their costs, and impediments to their implementation other than cost for each of the locations listed (i.e., the “5 percent report”) [Section 148(c)(1)(D)]. To be able to produce these reports, State DOTs must have crash data and analysis systems capable of identifying and determining the relative severity of hazardous highway locations on all public roads, and determining the “before” and “after” crash experiences at HSIP project locations. This information provides FHWA with a means for monitoring the effectiveness of these programs and may be used by Congress for determining the future HSIP program structure and funding levels. Per SAFETEA-LU, State DOTs have a great deal of flexibility in the methodology they use to rank the relative severity of their public road locations in terms of fatalities and serious injuries. The list of 5 percent of these locations exhibiting the most severe safety needs will result from the ranking methodology used, and may include roadway segments and/or intersections. For example, a State may compare its roadway locations against statewide average rates of fatalities and serious injuries per 100 million vehicle miles traveled for similar type facilities and determine that those segments whose rates exceed the statewide rates are the locations with the “most severe” safety needs, and then at least 5 percent of those locations would be included in the required annual report.

Respondents: 51 State Transportation Departments, including the District of Columbia.

Frequency: This report must be submitted annually.

Estimated Average Burden per Response: 500 hours (This is an increase of 300 burden hours from the current OMB approved 200 burden hours. The new report will take an additional 300 hours plus the 200 hours for the existing two reports).

Estimated Total Annual Burden Hours: 25,500 hours (51 states at an average of 500 hours each).

Electronic Access: Internet users may access all comments received by the U.S. DOT Dockets, Room PL-401, by using the universal resource locator (URL): http://dms.dot.gov, 24 hours each day, 365 days each year. Please follow the instructions online for more information and help.

Authority: The Paperwork Reduction Act of 1995; 44 U.S.C. Chapter 35, as amended; and 49 CFR 1.48.

Issued on: July 13, 2006.
James R. Kabel,
Chief, Management Programs and Analysis Division.

[FR Doc. E6-11366 Filed 7-17-06; 8:45 am]

BILLING CODE 4910-22-P